DEPARTMENT OF COMMERCE

National Oceanic and Atmospheric Administration

50 CFR Part 622

RIN 0648-BE93

Fisheries of the Caribbean, Gulf of Mexico, and South Atlantic; Shrimp Fishery of the Gulf of Mexico; Amendment 15

AGENCY: National Marine Fisheries Service (NMFS), National Oceanic and Atmospheric Administration (NOAA), Commerce.

ACTION: Notice of availability; request for comments.

SUMMARY: The Gulf of Mexico (Gulf) Fishery Management Council (Council) has submitted Amendment 15 to the Fishery Management Plan for the Shrimp Fishery of the Gulf of Mexico (FMP) for review, approval, and implementation by NMFS. Amendment 15 includes actions to revise the maximum sustainable yield (MSY), overfishing threshold, and overfished threshold definitions and values for three species of penaeid shrimp, and to revise the FMP framework procedures.

DATES: Written comments must be received on or before October 13, 2015.

ADDRESSES: You may submit comments on Amendment 15, identified by “NOAA-NMFS-2015-0097” by any of the following methods:

• Electronic Submission: Submit all electronic public comments via the Federal e-Rulemaking Portal. Go to www.regulations.gov/#!docketDetail;D=NOAA-NMFS-2015-0097, click the “Comment Now!” icon, complete the required fields, and enter or attach your comments.

• Mail: Submit written comments to Susan Gerhart, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

Electronic copies of Amendment 15, which includes an environmental assessment, a Regulatory Flexibility Act analysis, and a regulatory impact review, may be obtained from the Southeast Regional Office Web site at http://sero.nmfs.noaa.gov/sustainable_fisheries/gulf_fisheries/shrimp/2015/Am%2015/index.html.

FOR FURTHER INFORMATION CONTACT: Susan Gerhart, telephone: 727-824-5305, or email: Susan.Gerhart@noaa.gov.

SUPPLEMENTARY INFORMATION: The Magnuson-Stevens Fishery Conservation and Management Act (Magnuson-Stevens Act) requires each regional fishery management council to submit any FMP or amendment to NMFS for review and approval, partial approval, or disapproval. The Magnuson-Stevens Act also requires that NMFS, upon receiving a plan or amendment, publish an announcement in the Federal Register notifying the public that the plan or amendment is available for review and comment.

The FMP being revised by Amendment 15 was prepared by the Council and implemented through regulations at 50 CFR part 622 under the authority of the Magnuson-Stevens Act.

Background

Amendment 15 would revise the MSY, overfishing threshhold, and the overfished threshold definitions and values for brown, white, and pink shrimp in the Gulf. MSY is the largest average catch that can continuously be taken from a stock under existing environmental conditions. Overfishing occurs when the rate of removal is too high and jeopardizes the capacity of a stock or stock complex to produce MSY on a continuing basis. A stock or stock complex is considered overfished when its biomass has declined below the capacity of the stock or stock complex to produce MSY on a continuing basis.

The criteria and values for MSY, overfishing threshold, and overfished threshold for penaeid shrimp were established in Amendment 13 to the FMP (71 FR 56039, September 26, 2006). Historically, Gulf penaeid shrimp stocks were assessed with a virtual population analysis (VPA), which reported output in terms of number of parents. However, the 2007 pink shrimp stock assessment VPA incorrectly determined pink shrimp were undergoing overfishing because the model could not accommodate low effort. In 2009, NMFS stock assessment analysts determined that the stock synthesis model was the best choice for modeling Gulf shrimp populations. The Council's Scientific and Statistical Committee accepted the stock synthesis model as best scientific information available and Amendment 15 modifies the stock status determination criteria to match the biomass-based outputs of the stock synthesis model. These revisions to the penaeid shrimp stock status criteria are expected to have little to no change in the biological, physical, or ecological environments because these changes are only to the stock status reference points and will not have a direct impact on the actual harvest of penaeid shrimp.

Amendment 15 would also revise the FMP framework procedures. Framework procedures for a FMP allow changes in specific management measures and parameters that can be made more efficiently than changes made through a FMP plan amendment. Amendment 15 would make changes to the framework procedures to allow for modification of accountability measures under the standard documentation process of the open framework procedure. Also, outdated terminology, such as “total allowable catch” would be removed. Additionally, the phrase “transfer at sea provisions” would be removed from the list of framework procedures because this phrase was inadvertently included in the final rule for the Generic Annual Catch Limit Amendment (76 FR 82044, December 29, 2011).

A proposed rule that would implement measures outlined in Amendment 15 has been drafted. In accordance with the Magnuson-Stevens Act, NMFS is evaluating the proposed rule to determine whether it is consistent with the FMP, the Magnuson-Stevens Act, and other applicable law. If that determination is affirmative, NMFS will publish the proposed rule in the Federal Register for public review and comment.

Consideration of Public Comments

The Council has submitted Amendment 15 for Secretarial review, approval, and implementation. Comments received by October 13, 2015, whether specifically directed to the amendment or the proposed rule, will be considered by NMFS in its decision to approve, disapprove, or partially approve the amendment. Comments received after that date will not be considered by NMFS in this decision. All comments received by NMFS on the amendment or the proposed rule during their respective comment periods will be addressed in the final rule.

Authority: 16 U.S.C. 1801 et seq.

Dated: August 7, 2015.
Alan D. Risenhoover,
Director, Office of Sustainable Fisheries, National Marine Fisheries Service.

[FR Doc. 2015-19822 Filed 8-11-15; 8:45 am]

BILLING CODE 3510-22-P